DEPARTMENT OF AGRICULTURE

Rural Housing Service

U.S. Department of Agriculture Multi-Family Housing Program 2017 Industry Forums—Open Teleconference and/or Web Conference Meetings

AGENCY: Rural Housing Service, USDA.

ACTION: Notice.

SUMMARY: This Notice announces a series of teleconferences and/or web conference meetings regarding the U.S. Department of Agriculture (USDA), Multi-Family Housing program, which will be scheduled on a quarterly basis, but may be held more often at the Agency's discretion. This Notice also outlines suggested discussion topics for the meetings and is intended to notify the general public of their opportunity to participate in the teleconference and/or web conference meetings.

DATES: See SUPPLEMENTARY INFORMATION section for dates.

FOR FURTHER INFORMATION CONTACT: Timothy James, Loan and Finance Analyst, Multi-Family Housing, (919) 873-2056, or email timothy.james@wdc.usda.gov.

SUPPLEMENTARY INFORMATION: The objectives of this series of teleconferences are as follows:

• Enhance the effectiveness of the Multi-Family Housing program.

• Establish a two-way communications forum to update industry participants and Rural Housing Service (RHS) staff.

• Enhance RHS' awareness of issues that impact the Multi-Family Housing program.

• Increase transparency and accountability in the Multi-Family Housing program.

Topics to be discussed could include, but will not be limited to, the following:

• Updates on USDA Multi-Family Housing Program activities.

• Perspectives on the Multi-Family Housing Notice of Funds Availability processes.

• Comments on multi-family transaction processes.

• Comments on particular servicing-related activities of interest at that time.

Teleconference and/or web conference meetings are scheduled to occur quarterly during 2017. The dates and times for the teleconference and/or web conference meetings will be announced via email to parties registered as described below.

Any member of the public wishing to register for the meetings and obtain the call-in number, access code, web link and other information for any of the public teleconference and/or web conference meetings may contact Timothy James, Loan and Finance Analyst, Multi-Family Housing, (919) 873-2056, or email timothy.james@wdc.usda.gov and provide their name, title, Agency/company name, address, telephone numbers and email address. Persons who are already registered do not need to register again. Individuals who plan to participate and need reasonable accommodations or language translation assistance should inform Timothy James within 10 business day in advance of the meeting date. The teleconference and/or web conference meetings will be in compliance with Section 508 of the Rehabilitation Act.

Non-Discrimination Statement

In accordance with Federal civil rights law and U.S. Department of Agriculture (USDA) civil rights regulations and policies, the USD, its Agencies, offices, and employees, and institutions participating in or administering USDA programs are prohibited from discrimination based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at: http://www/ascr.usda.gov/complaint_filing_cust.html and at any USDA office or write a letter addressed to USDA and provide in the letter all of the information requested in the form. To request a copy of the complaint form, call (866) 632-9992. Submit your completed form or letter to USDA by:

(1) By mail: U.S. Department of Agriculture, Office of the Assistant Secretary for Civil Rights, 1400 Independence Avenue SW., Washington, DC 20250-9410;

(2) Fax: (202) 690-7442; or

(3) Email: program.intake@usda.gov.

Dated: April 24, 2017.
Richard A. Davis,
Acting Administrator, Rural Housing Service.

[FR Doc. 2017-08885 Filed 5-2-17; 8:45 am]

BILLING CODE 3410-XV-P